FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than October 23, 2023.

A. Federal Reserve Bank of Dallas (Karen Smith, Director, Mergers & Acquisitions) 2200 North Pearl Street, Dallas, Texas 75201-2272. Comments can also be sent electronically to Comments.applications@dal.frb.org:

1. Wade O. Easley, individually and as trustee of The La Plata Bancshares, Inc. Employee Stock Ownership Plan/401K Trust (the “ESOP”) and Holly W. Easley, all of Hereford, Texas; James O. Easley and Gloria Easley both of Wise River, Montana; and Steve Easley, Dawson, Texas; to become the Easley Family control group, a group acting in concert to retain voting shares of La Plata Bancshares, Inc., and thereby indirectly retain voting shares of The First National Bank of Hereford both of Hereford, Texas. Additionally, Wade O. Easley, individually and as trustee of the ESOP, to retain control of the voting shares of La Plata Bancshares, Inc., and indirectly voting shares of The First National Bank of Hereford.

Board of Governors of the Federal Reserve System.
Michele Taylor Fennell,
Deputy Associate Secretary of the Board.

[FR Doc. 2023-22310 Filed 10-5-23; 8:45 am]

BILLING CODE P